DEPARTMENT OF THE INTERIOR

Office of the Secretary

[245D0102DM DS600000 DLSN00000.000000 DX6CS25]

Statement of Findings: Choctaw Nation of Oklahoma and the Chickasaw Nation Water Rights Settlement

AGENCY: Office of the Secretary, Interior.

ACTION: Notice.

SUMMARY: The Secretary of the Interior (Secretary) is publishing this notice in accordance with the Choctaw Nation of Oklahoma and the Chickasaw Nation Water Rights Settlement (Settlement Act). The publication of this notice causes the settlement agreement executed in accordance with the Settlement Act to become enforceable and causes waivers and releases of claims executed pursuant to the Settlement Act to become effective.

DATES: This notice is applicable February 28, 2024.

FOR FURTHER INFORMATION CONTACT: Address all comments and requests for additional information to Sarah LeFlore, Chair, Choctaw-Chickasaw Settlement Implementation Team, Secretary's Indian Water Rights Office, 1849 C St. NW, Mail Stop 3045, Washington, DC 20240, (202) 208-5436, sarah_leflore@ios.doi.gov.

SUPPLEMENTARY INFORMATION: The Settlement Act, Public Law 114-322, was enacted to resolve certain claims to water of the Choctaw Nation of Oklahoma (Choctaw Nation) and the Chickasaw Nation as set forth in the State of Oklahoma, Choctaw Nation, Chickasaw Nation, City of Oklahoma City Water Settlement Agreement (Settlement Agreement) and the Settlement Act, including all claims or defenses in and to Chickasaw Nation and Choctaw Nation of Oklahoma v. Fallin, et al., Case No. CIV 11-927-G (W.D. Okla.) and Oklahoma Water Resources Board v. United States, et al., Case No. CIV 12-275-G (W.D. Okla.). The Settlement Parties include the Choctaw Nation, Chickasaw Nation, State of Oklahoma (State, including the Oklahoma Water Resources Board (OWRB)), City of Oklahoma City (City), Oklahoma City Water Utilities Trust (Trust), and the United States.

The Settlement Act and Settlement Agreement, inter alia, recognize and protect the Chickasaw Nation and Choctaw Nation's respective existing water uses and also provides procedures for expanded water uses in the future; create mechanisms by which the Nations will participate in the OWRB's consideration of certain applications to appropriate water within their historic treaty territories; and resolve certain issues related to Sardis Reservoir. Although section 3608(i)(2) of the Settlement Act established September 30, 2020 as the original deadline by which the findings herein were to be certified, the Settlement Parties twice extended the deadline pursuant to section 3608(i)(4) of the Settlement Act. The current deadline for this certification runs until March 31, 2024.

Statement of Findings

In accordance with section 3608(i)(1) of the Settlement Act and section 4.1 of the Settlement Agreement, I find and certify as follows:

(1) To the extent the Settlement Agreement conflicts with the Settlement Act, the Settlement Agreement has been amended to conform with the Settlement Act;

(2) The Settlement Agreement, as amended, has been executed by the Secretary of the Interior, the Choctaw Nation, the Chickasaw Nation, the Governor and Attorney General of the State, the OWRB, the City, and the Trust;

(3) The Amended Storage Contract has been amended to conform with the Settlement Act;

(4) The Amended Storage Contract, as amended to conform with the Settlement Act, has been executed by the State, the City, and the Trust, and approved by the Secretary of the Army;

(5) An order has been entered in United States v. Oklahoma Water Resources Board, Case No. Civ. 98-C-521-E with any modifications to the order dated September 11, 2009, as provided in the Settlement Act;

(6) Orders of dismissal have been entered in Chickasaw Nation and Choctaw Nation of Oklahoma v. Fallin, et al., Case No. CIV 11-927-G (W.D. Okla.) and Oklahoma Water Resources Board v. United States, et al., Case No. CIV 12-275-G (W.D. Okla.) as provided in the Settlement Agreement;

(7) The OWRB has issued the City Permit;

(8) The final documentation of the Kiamichi Basin hydrologic model is on file at the Oklahoma City office of the OWRB;

(9) The Atoka and Sardis Conservation Projects Fund has been funded as provided in the Settlement Agreement; and,

(10) The Chickasaw Nation, Choctaw Nation, and United States have executed the required waivers and releases of claims as required by the Settlement Act and Settlement Agreement.

Deb Haaland,
Secretary of the Interior.

[FR Doc. 2024-04013 Filed 2-27-24; 8:45 am]

BILLING CODE 4334-63-P